LEGAL SERVICES CORPORATION

Sunshine Act Meetings of the Board of Directors and Four of the Board's Committees

Times and Dates: The Legal Services Corporation Board of Directors and four of its Committees will meet October 28 and 29, 2005 in the order set forth in the following schedule unless the meetings are concurrent.

Meeting Schedule

Friday, October 28, 2005

1. Provision for the Delivery of Legal Services Committee (“Provisions Committee”), 1:15 p.m.

2. Performance Reviews Committee, 1:15 p.m.

3. Operations and Regulations Committee (Immediately following meeting of the Provisions Committee)

4. Finance Committee (Immediately following meeting of the Operations & Regulations Committee)

Note: If the Finance Committee does not conclude its business on Friday, October 28, it will reconvene at 9 a.m. on Saturday, October 29, 2005. Should this occur, the Board of Directors meeting will commence immediately following conclusion of the Finance Committee meeting.

Saturday, October 29, 2005

In the event the Finance Committee does not conclude its business on Friday, October 28, 2005, the meeting schedule on Saturday, October 29, 2005 will be as follows.

1. Finance Committee, 9 a.m.

2. Board of Directors (Immediately following conclusion of the Finance Committee meeting.)

Should the Finance Committee conclude its business on Friday, October 28, 2005, the schedule for Saturday, October 29, 2005, will be as follows.

1. Board of Directors, 9 a.m.

Location: The Grove Hotel, 245 South Capitol Boulevard, Boise, Idaho.

Status of Meetings: Open, except as noted below.

• Status: October 28, 2005 Annual Performance Reviews Committee Meeting—Closed. The Performance Reviews Committee meeting may be closed to the public pursuant to a vote of the Board of Directors authorizing the Committee to meet in executive session to consider and act on internal procedures for evaluation of the Corporation's President and Inspector General. The closing will be authorized by the relevant provision of the Government in the Sunshine Act [5 U.S.C. 552b(c)(2)] and the Legal Services Corporation's corresponding regulation, 45 CFR 1622.5(a). A copy of the General Counsel's Certification that the closing is authorized by law will be available upon request.

• Status: October 29, 2005 Board of Directors Meeting—Open, except that a portion of the meeting of the Board of Directors may be closed pursuant to a vote of the Board of Directors to hold an executive session. At the closed session, the Board will consider and may act on the General Counsel's report on litigation to which the Corporation is or may become a party and discuss internal procedures with the Inspector General (“IG”).¹ The closing is authorized by 5 U.S.C. 552b(c)(10) and LSC's implementing regulation 45 CFR 1622.5(h). A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 and 1622.3.

Matters to be Considered:

Friday, October 28, 2005

Performance Reviews Committee

Closed Session

1. Approval of agenda.

2. Consider and act on internal procedures for annual performance review of LSC President.

3. Consider and act on internal procedures for annual performance review of LSC Inspector General.

4. Consider and act on other business.

5. Consider and act on adjournment of meeting.

Provisions Committee

Open Session

1. Approval of agenda.

2. Approval of the Committee's meeting minutes of July 28, 2005.

3. Presentation on Draft Revision of LSC Performance Criteria.

a. Overview—Karen Sarjeant, Vice President, Programs and Compliance.

b. A Grantee's Perspective—Howard Belodoff, Associate Director, Idaho Legal Services.

c. Next steps—Helaine Barnett.

4. Public comment.

5. Consider and act on other business.

6. Consider and act on adjournment of meeting.

Operations and Regulations Committee

Open Session

1. Approval of agenda.

2. Approval of the Committee's meeting minutes of July 28, 2005.

3. Consider and act on initiation of rulemaking to repeal 45 CFR part 1631 (Expenditure of Grant Funds).

a. Staff report.

b. Public comment.

4. Consider and act on initiation of rulemaking to revise 45 CFR part 1621 (Client Grievance Procedure).

a. Staff report.

b. Public comment.

5. Consider and act on initiation of rulemaking to revise 45 CFR part 1624 (Prohibition Against Discrimination on the Basis of Handicap).

a. Staff report.

b. Public comment.

6. Staff update on dormant class actions.

7. Other public comment.

8. Consider and act on other business.

9. Consider and act on adjournment of meeting.

Finance Committee

Open Session

1. Approval of agenda.

2. Approval of the minutes of the Committee's meeting of September 30, 2005.

3. Presentation of the Fiscal Year 2005 Financial Report.

4. Consider and Act on FY 2005 Consolidated Operating Budget Reallocation, Resolution # 2005-010.

5. Report on Status of FY 2006 Appropriation.

6. Consider and Act on Temporary Operating Budget for FY 2006, Resolution # 2005-011.

7. Adopt resolution on the FY 2007 Budget Mark reflecting action taken at the September 30, 2005, Finance Committee meeting, Resolution # 2005-012.

8. Consider and Act on limits for individual employee savings plans:

a. Contributions to health savings accounts, Resolution # 2005-013.

b. Distributions from LSC's Mutual of America savings plan, Resolution # 2005-014.

c. Distributions from LSC's Diversified Investment Advisers savings plan, Resolution # 2005-015.

9. Consider and Act on a process for the distribution of any emergency funds for hurricane relief which may be appropriated by Congress, Resolution # 2005-016.

10. Consider and Act on other business.

11. Consider and Act on adjournment.

Saturday, October 29, 2005

Board of Directors

Open Session

1. Approval of agenda.

2. Approval of minutes of the Board's meeting of July 30, 2005.

3. Approval of minutes of the Executive Session of the Board's meeting of July 30, 2005.

4. Approval of minutes of the Board's meeting of October 11, 2005.

5. Consider and act on Strategic Directions for 2006—2010.

6. Chairman's Report.

7. Members' Reports.

8. President's Report.

9. Inspector General's Report.

10. Consider and act on the report of the Provision for the Delivery of Legal Services Committee.

11. Consider and act on the reports of the Finance Committee.

12. Consider and act on the report of the Operations and Regulations Committee.

13. Consider and act on the report of the Performance Reviews Committee.

14. Consider and act on delegating to the Chairman responsibility for day-to-day oversight of the Inspector General in accordance with OMB's Memorandum for Heads of Designated Federal Entities, M-93-01 (November 13, 1992).

15. Discussion of Board's review of LSC materials.

16. Consider and act on other business.

17. Public comment.

18. Consider and act on whether to authorize an executive session of the Board to address items listed below under Closed Session.

Closed Session

19. Consider and act on General Counsel's report on potential and pending litigation involving LSC.

20. Briefing on internal procedures with respect to OIG.

21. Consider and act on motion to adjourn meeting.

for further information contact: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: October 19, 2005.
Victor M. Fortuno,
Vice President for Legal Affairs, General Counsel & Corporate Secretary.

[FR Doc. 05-21218 Filed 10-19-05; 1:52 pm]

BILLING CODE 7050-01-P